DEPARTMENT OF AGRICULTURE

Animal and Plant Health Inspection Service

[Docket No. APHIS-2009-0101]

Notice of Availability of a Draft Response to Petitions for the Reclassification of Light Brown Apple Moth as a Non-Quarantine Pest

AGENCY: Animal and Plant Health Inspection Service, USDA.

ACTION: Notice of availability and request for comments.

SUMMARY: We are advising the public that the Animal and Plant Health Inspection Service is making available, for public review and comment, a draft response to two petitions we received requesting the reclassification of light brown apple moth [Epiphyas postvittana (Walker)] as a non-quarantine pest. Following the review period, APHIS will consider the comments prior to the release of a final petition response.

DATES: We will consider all comments that we receive on or before May 14, 2010.

ADDRESSES: You may submit comments by either of the following methods:

• Federal eRulemaking Portal: Go to (http://www.regulations.gov/fdmspublic/component/main?main=DocketDetail&d=APHIS-2009-0101) to submit or view comments and to view supporting and related materials available electronically.

• Postal Mail/Commercial Delivery: Please send two copies of your comment to Docket No. APHIS-2009-0101, Regulatory Analysis and Development, PPD, APHIS, Station 3A-03.8, 4700 River Road, Unit 118, Riverdale, MD 20737-1238. Please state that your comment refers to Docket No. APHIS-2009-0101.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Ms. Andrea Simao, National Program Manager, Emergency and Domestic Programs, PPQ, APHIS, 4700 River Road, Unit 26, Riverdale, MD 20737-1231; (301) 734-0930.

SUPPLEMENTARY INFORMATION:

Background

Light brown apple moth (Epiphyas postvittana [Walker]) (LBAM) is a plant pest with a broad host range of over 2,000 plant species, including stone fruit (peaches, plums, nectarines, cherries, and apricots), apples, pears, grapes, and citrus. LBAM larvae feed on the leaves and fruit of host plants and, under appropriate conditions, may result in significant damage. The pest can be very difficult to eradicate once it is established in an area. To date, natural enemies of leaf rollers have not impacted LBAM populations in the infested areas of California and few predators or parasites of LBAM have been observed.

Although LBAM was first detected in the late 1800s in Hawaii, it is present only at elevations of 1,394 feet or above in the State. Because most agricultural production in Hawaii occurs in the coastal regions, at elevations below 1,394 feet, LBAM has not been considered a pest of concern within the State. However, the interstate movement from Hawaii of cut flowers, fruits and vegetables, plants, and portions of plants, including LBAM host material, is currently prohibited unless the articles are first inspected and found free of plant pests (including LBAM) or are treated for plant pests.

Moths suspected of being LBAM were detected in Alameda and Contra Costa Counties, CA, in February 2007, and were subsequently confirmed as LBAM on March 16, 2007. Due to California’s cooler climate and the potential impact of LBAM on a wide range of crops, an aggressive response program has been conducted by the State of California with support from the Animal and Plant Health Inspection Service (APHIS) of the United States Department of Agriculture.

On September 12, 2008, and February 4, 2009, petitions were submitted to the Secretary of Agriculture requesting that APHIS reclassify LBAM from an actionable, quarantine-significant pest to a non-actionable, non-quarantine pest and that APHIS relieve the Federal restrictions placed on the interstate movement of LBAM host articles from areas where the pest had been detected. The petitions also questioned APHIS’ ability to eradicate LBAM, the appropriateness of technologies used to support an eradication program, the potential impacts of these technologies on the environment and to human health and safety, and the effectiveness of the communication strategies used to inform the public about the LBAM program.

This document announces the availability of our draft response to those petitions, titled “APHIS Draft Response to Petitions for the Reclassification of Light Brown Apple Moth [Epiphyas postvittana (Walker)] as a Non-Quarantine Pest.” For the sake of clarity, the discussion in our response focused on the petitioners’ request to reclassify LBAM. Questions raised by the petitions regarding regulatory and other actions are distinctly different discussions and are addressed separately in an accompanying document that provides additional information on the LBAM program in a frequently asked questions (FAQ) format.

The text of the petitions, APHIS’ draft petition response, and FAQ may be viewed on the Internet at the Regulations.gov Web site (see ADDRESSES above for instructions on accessing Regulations.gov). The draft response and FAQ may also be viewed on the APHIS Web site at (http://www.aphis.usda.gov/plant_health/plant_pest_info/lba_moth/index.shtml). You may request paper copies of the documents by calling or writing to the person listed under FOR FURTHER INFORMATION CONTACT. Please refer to the title of the documents when requesting copies. The documents are also available for review in our reading room (information on the location and hours of the reading room is listed under the heading ADDRESSES at the beginning of this notice).

After evaluating public comments we receive during the comment period (see DATES at the beginning of this notice), APHIS will determine whether or not to continue Federal enforcement of mandatory phytosanitary domestic quarantine regulations and the application of mandatory procedures for the official control of LBAM. We will then publish a document in the Federal Register announcing our determination.

Done in Washington, DC, this 9th day of March 2010.

Kevin Shea,
Acting Administrator, Animal and Plant Health Inspection Service.

[FR Doc. 2010-5599 Filed 3-12-10; 12:46 pm]

BILLING CODE 3410-34-S